DEPARTMENT OF ENERGY

Federal Energy Regulatory Commission

Notice of Transfer of Licenses and Soliciting Comments, Motions To Intervene, and Protests

July 30, 2002.

Take notice that the following hydroelectric applications have been filed with the Commission and is available for public inspection:

a. Application Type: Transfer of Licenses.

b. Project Nos.: 3939-020 and 3940-014.

c. Date Filed: June 28, 2002.

d. Applicants: City of Denton, Texas (Transferor) and Spencer Station Generating Company, L.P. (Transferee).

e. Name of Projects: Ray Roberts Dam and Lewisville Dam.

f. Location: The projects are located on the Elm Fork of the Trinity River, in Denton County, Texas, occupy lands of the United States, and utilize the U.S. Army Corps of Engineers' Federal Ray Roberts Dam and Federal Lewisville Dam.

g. Filed Pursuant to: Federal Power Act, 16 U.S.C. 791(a)-825(r).

h. Applicants Contacts: Kenneth M. Simon, Dickstein Shapiro Morin & Oshinsky LLP, 2101 L Street, NW., Washington, DC 20037, (202) 785-9700 (for the City of Denton); Donna M. Attanasio and Daniel A. Hagan, Dewey Ballantine LLP, 1775 Pennsylvania Avenue, NW., Washington, DC 20006, (202) 429-2327 (for Spencer Station Generating Company, L.P.).

i. FERC Contact: Regina Saizan, (202) 219-2673.

j. Deadline for filing comments and or motions: August 30, 2002.

All documents (original and eight copies) should be filed with: Magalie R. Salas, Secretary, Federal Energy Regulatory Commission, 888 First Street, NE., Washington, DC 20426. Please include the Project Numbers (3939-020 and 3940-014) on any comments or motions filed.

k. Description of Transfers: On June 29, 2001, the transferor sold a significant portion of its electric generating assets, including both projects, to the transferee. The applicants seek Commission approval to transfer the licenses for both projects from the City of Denton, Texas to Spencer Station Generating Company, L.P.

l. Location of the Application: This filing is available for review at the Commission or may be viewed on the Commission's Web site at http://www/ferc/gov using the “RIMS” link, select “Docket #” and follow the instructions (call 202-208-2222 for assistance). A copy is also available for inspection and reproduction at the address in item h above.

Comments, protests, and interventions may be filed electronically via the Internet in lieu of paper; see 18 CFR 385.2001(a)(1)(iii) and the instructions on the Commission's Web site under the “e-Filing” link.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.
Deputy Secretary

[FR Doc. 02-19651 Filed 8-2-02; 8:45 am]

BILLING CODE 6717-01-P